ENVIRONMENTAL PROTECTION AGENCY

[FRL OP-OFA-031]

Environmental Impact Statements; Notice of Availability

Responsible Agency: Office of Federal Activities, General Information 202-564-5632 or https://www.epa.gov/nepa.

Weekly receipt of Environmental Impact Statements (EIS)

Filed August 15, 2022 10 a.m. EST Through August 22, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220120, Draft, FERC, VA, Virginia Electrification Project, Comment Period Ends: 10/11/2022, Contact: Office of External Affairs 866-208-3372.

Amended Notice

EIS No. 20220094, Draft, BLM, NV, Goldrush Mine Project, Comment Period Ends: 08/29/2022, Contact: Scott Distel 775-635-4093. Revision to FR Notice Published 07/08/2022; Extending the Comment Period from 08/22/2022 to 08/29/2022.

Dated: August 22, 2022.
Robert Tomiak,
Director, Office of Federal Activities.

[FR Doc. 2022-18412 Filed 8-25-22; 8:45 am]

BILLING CODE 6560-50-P